DEPARTMENT OF DEFENSE

Department of the Navy

[Docket ID: USN-2008-0055]

Privacy Act of 1974; System of Records

AGENCY: United States Marine Corps, DoD.

ACTION: Notice to Delete Nine Systems of Records Notices.

SUMMARY: The U.S. Marine Corps is deleting nine systems of records notices from its inventory of records systems subject to the Privacy Act of 1974, as amended (5 U.S.C. 552a).

DATES: This action will be effective without further notice on November 14, 2008 unless comments are received that would result in a contrary determination.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete nine systems of records notices from its inventory of record systems subject to the Privacy Act of 1974 (5 U.S.C. 552a), as amended. The proposed deletions are not within the purview of subsection (r) of the Privacy Act of 1974 (5 U.S.C. 552a), as amended, which requires the submission of new or altered systems reports.

Dated: October 7, 2008.
Patricia L. Toppings,
OSD Federal Register Liaison Officer, Department of Defense.

Deletions

MIL00005

System name:

Passenger Transportation Program (February 22, 1993, 58 FR 10630).

Reason:

These records are maintained by the U.S. Transportation Command. Accordingly, all files have been merged into that system.

MIL00006

System name:

Dealer's Record of Sale of Rifle or Pistol, State of California (February 22, 1993, 58 FR 10630).

Reason:

NM08730-1, Weapons Registration, is a joint Navy and Marine Corps system that covers this collection. Accordingly, all files have been merged into that system.

MMC00003

System name:

Activity Check In Check Out File (October 22, 1999, 64 FR 57071)

Reason:

NM05000-2, Organization Management and Locator System, is a joint Navy and Marine Corps system that covers this collection. Accordingly, all files have been merged into that system.

MJA00013

System name:

Bad Checks Withdrawal of Check Cashing Privileges Lists (October 22, 1999, 64 FR 57071).

Reason:

Collections are no longer being done, therefore, no need for the notice.

MJA00001

System name:

Business Complaint File (February 22, 1993, 58 FR 10630).

Reason:

This system collects no personal information, it collects business information only. Therefore, no need for the notice.

MIL00003

System name:

Laundry Charge Accounts Records (February 22, 1993, 58 FR 10630).

Reason:

Collections are no longer being done, therefore, no need for the notice.

MIL00011

System name:

Marine Corps Exchange Vendor Directory (February 22, 1993, 58 FR 10630).

This system collects no personal information, it collects business information only. Therefore, no need for the notice.

MIN0001

System name:

Personnel Security Eligibility and Access Information System (February 22, 1993, 58 FR 10630).

Reason:

NM05000-2, Organization Management and Locator System, is a joint Navy and Marine Corps system that covers this collection. Accordingly, all files have been merged into that system.

MIL00021

System name:

Working Files, Division Supply Sections and Wing Sections (August 17, 1999, 64 FR 44698).

Reason:

NM05000-2, Organization Management and Locator System, is a joint Navy and Marine Corps system that covers this collection. Accordingly, all files have been merged into that system.

[FR Doc. E8-24393 Filed 10-14-08; 8:45 am]

BILLING CODE 5001-06-P